DEPARTMENT OF HOMELAND SECURITY

Coast Guard

DEPARTMENT OF TRANSPORTATION

Maritime Administration

[USCG-2004-16860]

Gulf Landing LLC Liquefied Natural Gas Deepwater Port License Application; Draft Environmental Impact Statement

AGENCY: Coast Guard, DHS; and Maritime Administration, DOT.

ACTION: Notice of availability; notice of public meeting; and request for public comments.

SUMMARY: The Coast Guard and the Maritime Administration announce the availability of the draft environmental impact statement for the Gulf Landing, LLC Deepwater Port License Application. The proposed Gulf Landing liquefied natural gas deepwater port would be located in the Gulf of Mexico approximately 38 miles south of Cameron, Louisiana. The Coast Guard and the Maritime Administration solicit public input on this draft environmental impact statement.

DATES: The draft environmental impact statement (DEIS) will be available on June 25, 2004, and comments must reach the Coast Guard on or before August 9, 2004. Additionally, an informational open house will be held in Lafayette, Louisiana on July 15, 2004, from 2 p.m. until 4 p.m., and a formal public meeting from 5 p.m. until 7 p.m.

ADDRESSES: The informational open house/public meeting location is: Courtyard by Marriott, 214 East Kaliste Saloon Road, Lafayette, LA 70508, telephone number 337-232-5005.

You may submit comments, identified by Coast Guard docket number USCG-2004-16860, to the Docket Management Facility at the U.S. Department of Transportation. To avoid duplication, please use only one of the following methods:

(1) Web site: http://dms.dot.gov.

(2) Mail: Docket Management Facility, U.S. Department of Transportation, 400 Seventh Street SW., Washington, DC 20590-0001.

(3) Fax: 202-493-2251.

(4) Delivery: Room PL-401 on the Plaza level of the Nassif Building, 400 Seventh Street SW., Washington, DC, between 9 a.m. and 5 p.m., Monday through Friday, except Federal holidays. The telephone number is 202-366-9329.

(5) Federal eRulemaking Portal: http://www.regulations.gov.

The Docket Management Facility maintains the public docket for this notice. Comments will become part of this docket and will be available for inspection or copying in Room PL-401, located on the Plaza Level of the Nassif Building at the above address between 9 a.m. and 5 p.m., Monday through Friday, except for Federal holidays. You may also view this docket, including this notice and comments, on the Internet at http://dms.dot.gov.

FOR FURTHER INFORMATION CONTACT: If you have questions on this notice, the project, or the meeting, call Lieutenant Derek Dostie at 202-267-0662, or e-mail at ddostie@comdt.uscg.mil. If you have questions on viewing or submitting material to the docket, call Andrea M. Jenkins, Program Manager, Docket Operations, telephone 202-366-0271.

SUPPLEMENTARY INFORMATION:

Request for Comments

We encourage you to submit comments on the DEIS. You may submit comments and related materials on this notice, the public meeting, or concerning the license application. Persons submitting comments should include their name and address, the docket number (USCG-2004-16860), and the reasons for each comment. You may submit your comments and materials by mail, hand delivery, fax, or electronic means to the Docket Management Facility at the address given under ADDRESSES; but please submit your comments and materials by only one means. If you choose to submit them by mail or hand delivery, submit them in an unbound format, no larger than 8½ by 11 inches, and suitable for copying and electronic filing. If you submit them by mail and would like to know if they reach the facility, please enclose a stamped, self-addressed postcard or envelope. We will consider all comments and materials received during the comment period. All comments received will be posted, without change, to http://dms.dot.gov and will include any personal information you have provided. We have an agreement with the Department of Transportation (DOT) to use their Docket Management Facility. Please see DOT's “Privacy Act” paragraph below.

Viewing Comments and Documents

To view comments, the DEIS, or other materials relating to this license application, go to http://dms.dot.gov at any time and conduct a simple search using the docket number. You may also visit the Docket Management Facility in room PL-401 on the Plaza level of the Nassif Building, 400 Seventh Street SW., Washington, DC, between 9 a.m. and 5 p.m., Monday through Friday, except Federal holidays.

Privacy Act

Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://dms.dot.gov.

Public Meeting/Informational Open House

The Coast Guard and the Maritime Administration will host an informational open house from 2 p.m. to 4 p.m. on Thursday, July 15, 2004, at the Courtyard by Marriott, 214 East Kaliste Saloon Road, Lafayette, LA 70508, telephone number 337-232-5005. A public meeting will be held from 5 p.m. until 7 p.m., following the informational open house. We invite the public and representatives of interested agencies to attend and provide their views on the proposed action and the evaluation contained in the DEIS. If you plan to attend the meeting and need special assistance, such as sign language interpretation or other reasonable accommodations, please contact the person named in FOR FURTHER INFORMATION CONTACT and we will try to make reasonable accommodations for your needs. We ask that any requests be made at least three (3) business days prior to the scheduled meeting and include a contact person's name, telephone number, your specific need, and a TDD number (for those with hearing impairments).

Proposed Action

The application plan calls for construction of a deepwater port and associated anchorages in an area situated in the Gulf of Mexico, approximately 38 miles south of Cameron, Louisiana, in outer continental shelf block West Cameron 213, in water depth of approximately 55 feet, and adjacent to an existing shipping fairway servicing the Calcasieu River and area ports.

Gulf Landing's terminal would be capable of storing up to 200,000 cubic meters of LNG and vaporizing up to 1.2 billion cubic feet per day. Gulf Landing proposes to construct, own, and operate 5 pipelines that would interconnect with existing natural gas pipelines located in the Gulf of Mexico. Gas would then be delivered to the onshore national pipeline grid for delivery to any consumption market east of the Rocky Mountains.

The project would consist of two concrete gravity based structures (GBSs) housing the LNG containment facilities, along with topside unloading and vaporization structures, living quarters, and a ship berthing system.

The terminal would be able to receive LNG carriers with cargo capacities between 125,000 and 200,000 cubic meters and unload up to 135 LNG carriers per year. LNG carrier arrival frequency would be planned to match specified terminal gas delivery rates. All marine systems, communication, navigation aids and equipment necessary to conduct safe LNG carrier operations and receiving of cargo during specified atmospheric and sea states would be provided at the port.

The regasification process would consist of lifting the LNG from storage tanks, pumping the cold liquid to pipeline pressure, subsequent vaporization of the LNG across heat exchanging equipment, and send-out through custody transfer metering to the gas pipeline network. No gas conditioning is required at the terminal since the incoming LNG would be pipeline quality.

Five offshore pipelines, ranging from 16 to 36 inches in diameter, would be constructed and would transverse a combined 65.7 nautical miles. Each pipeline would transport gas from the terminal to an existing transmission pipeline where it would deliver the gas to the onshore U.S. gas pipeline network. On average, Gulf Landing expects the terminal would vaporize and deliver 1 billion cubic feet per day (Bcfd) of natural gas to the pipelines; with a peak daily send-out rate of 1.2 Bcfd.

Alternatives

The DEIS examines the preferred location, an alternative site and a no-action alternative. The alternative project site is West Cameron block 183. The DEIS will assess the impacts of the alternatives—including approving, approving with conditions, or not approving (No Action Alternative) the license application to construct and operate Gulf Landing—on the natural and human environment.

As required by the National Environmental Policy Act, the Coast Guard also will analyze the No Action Alternative as a baseline for comparing the impacts of the proposed project. For the purposes of this project, the No Action Alternative is defined as not approving the Gulf Landing LLC Deepwater Port License Application.

Dated: June 21, 2004.
Howard L. Hime,
Acting Director of Standards, Marine Safety, Security, and Environmental Protection, U.S. Coast Guard.
Raymond R. Barberesi,
Director, Office of Ports and Domestic Shipping, U.S. Maritime Administration.

[FR Doc. 04-14456 Filed 6-22-04; 1:22 pm]

BILLING CODE 4910-15-P